FEDERAL ELECTION COMMISSION

[Notice 2009-15]

Filing Dates for the California Special Election in the 10th Congressional District

AGENCY: Federal Election Commission.

ACTION: Notice of filing dates for special election.

SUMMARY: California has scheduled a special general election on September 1, 2009, to fill the U.S. House of Representatives seat in the Tenth Congressional District vacated by Representative Ellen O. Tauscher. Under California law, a majority winner in a special election is declared elected. Should no candidate achieve a majority vote, a special runoff election will be held on November 3, 2009, among the top vote-getters of each qualified political party, including qualified independent candidates.

Political committees participating in the California special elections are required to file pre- and post-election reports. Filing deadlines for these reports are affected by whether one or two elections are held.

FOR FURTHER INFORMATION CONTACT: Mr. Kevin R. Salley, Information Division, 999 E Street, NW., Washington, DC 20463; Telephone: (202) 694-1100; Toll Free (800) 424-9530.

SUPPLEMENTARY INFORMATION:

Principal Campaign Committees

All principal campaign committees of candidates who participate in the California Special General and Special Runoff Elections shall file a 12-day Pre-General Report on August 20, 2009; a Pre-Runoff Report on October 22, 2009; and a Post-Runoff Report on December 3, 2009. (See chart below for the closing date for each report.)

If only one election is held, all principal campaign committees of candidates in the Special General Election shall file a 12-day Pre-General Report on August 20, 2009; and a Post-General Report on October 1, 2009. (See chart below for the closing date for each report.)

Note that these reports are in addition to the campaign committee's quarterly filing in October and Year-End filing in January 2010. (See chart below for the closing date for each report.)

Unauthorized Committees (PACs and Party Committees)

Political committees filing on a semi-annual basis in 2009 are subject to special election reporting if they make previously undisclosed contributions or expenditures in connection with the California Special General Election and/or Special Runoff Election by the close of books for the applicable report(s). (See chart below for the closing date for each report.)

Political committees filing monthly that support candidates in the California Special General or Special Runoff Election continue to file according to the monthly reporting schedule.

Additional disclosure information in connection with the California Special Election may be found on the FEC Web site at http://www.fec.gov/info/report_dates.shtml.

Disclosure of Lobbyist Bundling Activity

Campaign committees, party committees and Leadership PACs that are otherwise required to file reports in connection with the special elections must simultaneously file FEC Form 3L if they receive two or more bundled contributions from lobbyists/registrants or lobbyist/registrant PACs that aggregate in excess of $16,000 during the special election reporting periods (see charts below for closing date of each period). 11 CFR 104.22(a)(5)(v). For more information on these requirements, see Federal Register Notice 2009-03, 74 FR 7285 (February 17, 2009).

Calendar of Reporting Dates for California Special Election
Report | Close of books ¹ | Reg./cert. & overnight mailing deadline | Filing deadline
IF ONLY THE SPECIAL GENERAL IS HELD (09/01/09), QUARTERLY FILING POLITICAL COMMITTEES INVOLVED MUST FILE:
Pre-General | 08/12/09 | 08/17/09 | 08/20/09
Post-General | 09/21/09 | 10/01/09 | 10/01/09
October Quarterly | 09/30/09 | 10/15/09 | 10/15/09
IF ONLY THE SPECIAL GENERAL IS HELD (09/01/09), SEMI-ANNUAL FILING POLITICAL COMMITTEES INVOLVED MUST FILE:
Pre-General | 08/12/09 | 08/17/09 | 08/20/09
Post-General | 09/21/09 | 10/01/09 | 10/01/09
Year-End | 12/31/09 | 01/31/10 | ² 01/31/10
IF TWO ELECTIONS ARE HELD, QUARTERLY FILING POLITICAL COMMITTEES INVOLVED ONLY IN THE SPECIAL GENERAL (09/01/09) MUST FILE:
Pre-General | 08/12/09 | 08/17/09 | 08/20/09
October Quarterly | 09/30/09 | 10/15/09 | 10/15/09
IF TWO ELECTIONS ARE HELD, SEMI-ANNUAL FILING POLITICAL COMMITTEES INVOLVED ONLY IN THE SPECIAL GENERAL (09/01/09) MUST FILE:
Pre-General | 08/12/09 | 08/17/09 | 08/20/09
Year-End | 12/31/09 | 01/31/10 | ² 01/31/10
QUARTERLY FILING POLITICAL COMMITTEES INVOLVED IN THE SPECIAL GENERAL (09/01/09) AND SPECIAL RUNOFF (11/03/09) MUST FILE:
Pre-General | 08/12/09 | 08/17/09 | 08/20/09
October Quarterly |  | WAIVED
Pre-Runoff | 10/14/09 | 10/19/09 | 10/22/09
Post-Runoff | 11/23/09 | 12/03/09 | 12/03/09
Year-End | 12/31/09 | 01/31/10 | ² 01/31/10
SEMI-ANNUAL FILING POLITICAL COMMITTEES INVOLVED IN THE SPECIAL GENERAL (09/01/09) AND SPECIAL RUNOFF (11/03/09) MUST FILE:
Pre-General | 08/12/09 | 08/17/09 | 08/20/09
Pre-Runoff | 10/14/09 | 10/19/09 | 10/22/09
Post-Runoff | 11/23/09 | 12/03/09 | 12/03/09
Year-End | 12/31/09 | 01/31/10 | ² 01/31/10
QUARTERLY FILING POLITICAL COMMITTEES INVOLVED ONLY IN THE SPECIAL RUNOFF (11/03/09) MUST FILE:
October Quarterly |  | WAIVED
Pre-Runoff | 10/14/09 | 10/19/09 | 10/22/09
Post-Runoff | 11/23/09 | 12/03/09 | 12/03/09
Year-End | 12/31/09 | 01/31/10 | ² 01/31/10
SEMI-ANNUAL FILING POLITICAL COMMITTEES INVOLVED ONLY IN THE SPECIAL RUNOFF (11/03/09) MUST FILE:
Pre-Runoff | 10/14/09 | 10/19/09 | 10/22/09
Post-Runoff | 11/23/09 | 12/03/09 | 12/03/09
Year-End | 12/31/09 | 01/31/10 | ² 01/31/10
¹ The reporting period always begins the day after the closing date of the last report filed. If the committee is new and has not previously filed a report, the first report must cover all activity that occurred before the committee registered as a political committee with the Commission up through the close of books for the first report due.
² Notice that this filing deadline falls on a weekend. Filing deadlines are not extended when they fall on nonworking days. Accordingly, reports filed by methods other than Registered, Certified or Overnight Mail, or electronically, must be received before the Commission's close of business on the last business day before the deadline.

Dated: July 14, 2009.
On behalf of the Commission,
Steven T. Walther,
Chairman, Federal Election Commission.

[FR Doc. E9-17123 Filed 7-17-09; 8:45 am]

BILLING CODE 6715-01-P